ENVIRONMENTAL PROTECTION AGENCY

40 CFR Part 52

[EPA-R08-OAR-2011-0658; FRL-9840-9]

Approval and Promulgation of Air Quality Implementation Plans; State of Colorado; Second Ten-Year Carbon Monoxide Maintenance Plan for Greeley

AGENCY: Environmental Protection Agency (EPA).

ACTION: Direct Final Rule.

SUMMARY: EPA is taking direct final action approving a State Implementation Plan (SIP) revision submitted by the State of Colorado. On March 31, 2010, the Governor of Colorado's designee submitted to EPA a Clean Air Act (CAA) section 175A(b) second 10-year maintenance plan for the Greeley area for the carbon monoxide (CO) National Ambient Air Quality Standard (NAAQS). This limited maintenance plan (LMP) addresses maintenance of the CO NAAQS for a second 10-year period beyond the original redesignation. This action is being taken under sections 110 and 175A of the CAA.

DATES: This rule is effective on October 1, 2013 without further notice, unless EPA receives adverse comment by September 3, 2013. If adverse comment is received, EPA will publish a timely withdrawal of the direct final rule in the Federal Register informing the public that the rule will not take effect.

ADDRESSES: Submit your comments, identified by Docket ID No. EPA-R08-OAR-2011-0658, by one of the following methods:

• http://www.regulations.gov. Follow the on-line instructions for submitting comments.

• Email: clark.adam@epa.gov.

• Fax: (303) 312-6064 (please alert the individual listed in the FOR FURTHER INFORMATION CONTACT if you are faxing comments).

• Mail: Carl Daly, Director, Air Program, EPA, Region 8, Mailcode 8P-AR, 1595 Wynkoop Street, Denver, Colorado 80202-1129.

• Hand Delivery: Carl Daly, Director, Air Program, EPA, Region 8, Mailcode 8P-AR, 1595 Wynkoop, Denver, Colorado 80202-1129. Such deliveries are only accepted Monday through Friday, 8:00 a.m. to 4:30 p.m., excluding federal holidays. Special arrangements should be made for deliveries of boxed information.

Instructions: Direct your comments to Docket ID No. EPA-R08-OAR-2011-0658. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA, without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I. General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Program, EPA Region 8, Mailcode 8P-AR, 1595 Wynkoop, Denver, Colorado 80202-1129. EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Adam Clark, Air Program, EPA, Region 8, Mailcode 8P-AR, 1595 Wynkoop, Denver, Colorado 80202-1129, (303) 312-7104, clark.adam@epa.gov.

SUPPLEMENTARY INFORMATION:

Table of Contents

I. General Information

II. Background

III. What was the State's process?

IV. EPA's Evaluation of the Revised Greeley Maintenance Plan

V. Final Action

VI. Statutory and Executive Order Review

Definitions

For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The words Colorado and State mean the State of Colorado.

I. General Information

A. What should I consider as I prepare my comments for EPA?

1. Submitting CBI. Do not submit this information to EPA through http://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

II. Background

Under the CAA Amendments of 1990, the Greeley area was designated as nonattainment and classified as a “not classified” CO area because it had been designated as nonattainment before November 15, 1990, but had not violated the CO NAAQS in 1988 and 1989 (56 FR 56694, November 6, 1991). On September 16, 1997, the Governor of Colorado submitted to EPA a request to redesignate the Greeley CO nonattainment area to attainment for the CO NAAQS. Along with this request, the Governor submitted a CAA section 175A(a) maintenance plan which demonstrated that the area would maintain the CO NAAQS for the first 10 years following our approval of the redesignation request. We approved the State's redesignation request and 10-year maintenance plan on March 10, 1999 (64 FR 11775).

On June 20, 2003, the Governor of Colorado submitted to EPA a revised Greeley CO maintenance plan to justify removal of Colorado's motor vehicle emissions inspection program and oxygenated fuels program from the plan; the revised plan demonstrated maintenance of the CO NAAQS in the Greeley area through 2015 without the motor vehicle emissions inspection program and oxygenated fuels program. At that time, the State also submitted revisions to Colorado Air Quality Control Commission (AQCC) Regulation No. 11, “Motor Vehicle Emissions Inspection Program,” and AQCC Regulation No. 13, “Oxygenated Fuels Program,” to effectuate the removal of both of these programs from the SIP for the Greeley area. The 2003 maintenance plan submittal also included transportation conformity budgets for various years through 2015. We approved all of these changes into the SIP on August 19, 2005 (70 FR 48650).

Eight years after an area is redesignated to attainment, CAA section 175A(b) requires the state to submit a subsequent maintenance plan to EPA, covering a second 10-year period.¹ This second 10-year maintenance plan must demonstrate continued maintenance of the applicable NAAQS during this second 10-year period. To fulfill this requirement of the Act, the Governor of Colorado's designee submitted the second 10-year Greeley CO maintenance plan (hereafter, “revised Greeley Maintenance Plan”) to us on March 31, 2010. With this action, we are approving the revised Greeley Maintenance Plan.

¹ In this case, the initial maintenance period extended through 2009. Thus, the second 10-year period extends through 2019.

The 8-hour CO NAAQS—9.0 ppm—is attained when such value is not exceeded more than once a year. 40 CFR 50.8(a)(1). The Greeley area has attained the 8-hour CO NAAQS from 1988 to the present.² In October 1995, EPA issued guidance that provided nonclassifiable CO nonattainment areas the option of using a less rigorous “limited maintenance plan” (LMP) option to demonstrate continued attainment and maintenance of the CO NAAQS.³ According to this guidance, areas that can demonstrate design values at or below 7.65 ppm (85% of exceedance levels of the 8-hour CO NAAQS) for eight consecutive quarters qualify to use an LMP. The area qualified for and used EPA's LMP option for the first 10-year maintenance plan (64 FR 11775, March 10, 1999), but the State was not able to use the LMP option for the plan revision that it submitted in 2003.⁴ For the revised Greeley Maintenance Plan the State again used the LMP option to demonstrate continued maintenance of the CO NAAQS in the Greeley area. We have determined that the Greeley area qualifies for the LMP option for this plan revision because the maximum design value for the most recent eight consecutive quarters with certified data at the time the State adopted the plan (years 2007 and 2008) was 2.4 ppm.⁵

² The Greeley area has never exceeded the 1-hour CO standard of 35 ppm.

³ Memorandum “Limited Maintenance Plan Option for Nonclassifiable CO Nonattainment Areas” from Joseph W. Paisie, Group Leader, EPA Integrated Policy and Strategies Group, to Air Branch Chiefs, October 6, 1995 (hereafter referred to as “LMP Guidance”).

⁴ For a more detailed explanation, see 70 FR 28234 (May 17, 2005).

⁵ See Table 1 below. Additionally, according to the LMP guidance, an area using the LMP option must continue to have a design value “at or below 7.65 ppm until the time of final EPA action on the redesignation.” Table 1, below, demonstrates that the area meets this requirement.

III. What was the State's Process?

Section 110(a)(2) of the CAA requires that a state provide reasonable notice and public hearing before adopting a SIP revision and submitting it to us.

The Colorado AQCC held a public hearing for the revised Greeley Maintenance Plan on December 17, 2009. The AQCC adopted the revised maintenance plan directly after the hearing. The Governor's designee submitted the revised plan to EPA on March 31, 2010.

We have evaluated the SIP revision and have determined that the State met the requirements for reasonable notice and public hearing under section 110(a)(2) of the CAA. On September 30, 2010, by operation of law under CAA section 110(k)(1)(B), the SIP revision was deemed to have met the minimum “completeness” criteria found in 40 CFR part 51, appendix V.

IV. EPA's Evaluation of the Revised Greeley Maintenance Plan

The following are the key elements of an LMP for CO: Emission Inventory, Maintenance Demonstration, Monitoring Network/Verification of Continued Attainment, Contingency Plan, and Conformity Determinations. Below, we describe our evaluation of each of these elements as it pertains to the revised Greeley Maintenance Plan.

A. Emission Inventory

The revised Greeley Maintenance Plan contains an emission inventory for the base year 2007. The emission inventory is a list, by source category, of the air contaminants directly emitted into the Greeley CO maintenance area on a typical winter day in 2007.⁶ The data in the emission inventory were developed using EPA-approved emissions modeling methods. The State provided a more detailed description of the 2007 inventory in its Technical Support Document (TSD) for the revised Greeley Maintenance Plan.⁷ Included in this inventory are commercial cooking, fuel combustion, highway vehicle exhaust, oil and gas sources, non-road mobile sources, railroads, structure fires, woodburning, and non-oil-and-gas point sources. The revised maintenance plan and TSD contain detailed emission inventory information that was prepared in accordance with EPA guidance and is acceptable to us.⁸

⁶ Violations of the CO NAAQS are most likely to occur on winter weekdays.

⁷ The TSD for the revised Greeley Maintenance Plan can be found in the docket for this action.

⁸ See “Procedures for Processing Requests To Redesignate Areas To Attainment,” from John Calcagni, Director, Air Quality Management Division, EPA, September 4, 1992.

B. Maintenance Demonstration

EPA considers the maintenance demonstration requirement to be satisfied for areas that qualify for and are using the LMP option. As mentioned above, a maintenance area is qualified to use the LMP option if that area's maximum 8-hour CO design value for eight consecutive quarters does not exceed 7.65 ppm (85% of the CO NAAQS). EPA maintains that if an area begins the maintenance period with a design value no greater than 7.65 ppm, the applicability of prevention of significant deterioration requirements, the control measures already in the SIP, and federal measures should provide adequate assurance of maintenance over the 10-year maintenance period. Therefore, EPA does not require areas using the LMP option to project emissions over the maintenance period. Because CO design values in the Greeley area are consistently well below the LMP threshold (See Table 1 below), the State has adequately demonstrated that the Greeley area will maintain the CO NAAQS into the future.

Table 1—8-Hour CO Design Values for Greeley, Colorado
Design value (ppm) * | Year
3.7 | 2004
2.8 | 2005
3.3 | 2006
2.4 | 2007
2.2 | 2008
2.1 | 2009
2.3 | 2010
1.5 | 2011
1.6 | 2012
* Design Values were derived from the EPA AirData Web site (http://www.epa.gov/airdata/).

C. Monitoring Network/Verification of Continued Attainment

In the revised Greeley Maintenance Plan, the State commits to continuing operation of an air quality monitoring network in accordance with 40 CFR Part 58 to verify continued attainment of the CO NAAQS. The State also commits to conducting an annual review of the air quality surveillance system in accordance with 40 CFR 58.10. Additionally, the plan indicates that if measured mobile source parameters change significantly over time, the State will perform appropriate studies to determine whether additional and/or re-sited monitors are necessary. We are approving these commitments as satisfying the relevant requirements.

D. Contingency Plan

Section 175A(d) of the CAA requires that a maintenance plan include contingency provisions to promptly correct any violation of the NAAQS that occurs after redesignation of an area. To meet this requirement, the State has indentified appropriate contingency measures along with a schedule for the development and implementation of such measures.

As stated in the revised Greeley Maintenance Plan, the contingency measures will be triggered by a violation of the CO NAAQS. No more than 60 days after notification from the Colorado Air Pollution Control Division (APCD) that a violation of the CO NAAQS has occurred, the North Front Range Metropolitan Planning Organization (NFRMPO), in conjunction with the APCD, AQCC, and local governments, will initiate a subcommittee process to begin evaluating potential contingency measures. The subcommittee will present recommendations within 120 days of notification, and the recommended contingency measures will be presented to the AQCC within 180 days of notification. The AQCC will then hold a public hearing to consider the contingency measures recommended by the subcommittee along with any other contingency measures the AQCC believes may be appropriate to effectively address the violation. The necessary contingency measures will be adopted and implemented within one year after a violation occurs.

The potential contingency measures that are identified in the revised Greeley CO maintenance plan include, but are not limited to: (1) A federally enforceable enhanced vehicle inspection and maintenance program; ⁹ (2) a 2.7% oxygenated gasoline program, as set forth in AQCC Regulation Number 13 as of September 2009; (3) re-establishing nonattainment new source review permitting for stationary sources; and (4) wood burning restrictions.

⁹ A State-only enhanced inspection and maintenance program is already required for the Greeley area as part of the State's “Ozone Action Plan.” However, this existing program is not federally enforceable, and could be discontinued by the State without regard to the Greeley CO maintenance plan.

We find that the contingency measures provided in the revised Greeley Maintenance Plan are sufficient and meet the requirements of section 175A(d) of the CAA.

E. Transportation Conformity

Transportation conformity is required by section 176(c) of the CAA. Conformity to a SIP means that transportation activities will not produce new air quality violations, worsen existing violations, or delay timely attainment of the NAAQS (CAA 176(c)(1)(B)). EPA's conformity rule at 40 CFR part 93 requires that transportation plans, programs and projects conform to SIPs and establish the criteria and procedures for determining whether or not they conform. To effectuate its purpose, the conformity rule requires a demonstration that emissions from the Regional Transportation Plan (RTP) and the Transportation Improvement Program (TIP) are consistent with the motor vehicle emission budget (MVEB) contained in the control strategy SIP revision or maintenance plan (40 CFR 93.101, 93.118, and 93.124). A MVEB is defined as the level of mobile source emissions of a pollutant relied upon in the attainment or maintenance demonstration to attain or maintain compliance with the NAAQS in the nonattainment or maintenance area.¹⁰

¹⁰ Further information concerning EPA's interpretations regarding MVEBs can be found in the preamble to EPA's November 24, 1993, transportation conformity rule (see 58 FR 62193-62196).

Under the LMP guidance, emissions budgets generally are treated as not constraining for the length of the maintenance period. While EPA's LMP guidance does not exempt an area from the need to affirm conformity, it explains that the area may demonstrate conformity without submitting a MVEB. According to the LMP guidance, it is unreasonable to expect that an LMP area will experience so much growth in that period that a violation of the CO NAAQS would result.¹¹ However, the CO maintenance plan for Greeley that we approved in 2005 (70 FR 48650) contains MVEBs for 2010 through 2014 (62 tons per day of CO), and for 2015 (60 tons per day of CO), and the State did not revise or remove these MVEBs from the SIP. Under our conformity regulations, consistency with those MVEBs must continue to be demonstrated as long as such years are within the timeframe of the transportation plan. See 40 CFR 93.118(b)(2)(i) and (d)(2).¹²

¹¹ LMP Guidance at 4. October 6, 1995.

¹² As required by our transportation conformity adequacy process, we made a finding in a March 4, 2011 letter to the Colorado Department of Public Health and Environment (CDPHE) that the revised Greeley Maintenance Plan was adequate for transportation conformity purposes. This finding was based substantially on the fact that the Greeley CO maintenance area meets the LMP criteria, and is therefore not required to project future emissions. In a Federal Register notice dated August 2, 2011, we notified the public of our finding that the revised Greeley Maintenance Plan was adequate for transportation conformity purposes (see 76 FR 46288). This adequacy determination became effective on August 17, 2011.

When those years are no longer within the timeframe of the transportation plan, there will no longer be a need to demonstrate conformity with any MVEB for the Greeley CO maintenance area, for the reasons described in our LMP guidance. From that point forward, all actions that require conformity determinations for the Greeley CO maintenance area under our conformity rule provisions will be considered to have already satisfied the regional emissions analysis and “budget test” requirements in 40 CFR 93.118 because of our approval of the Greeley CO LMP.

However, since LMP areas are still maintenance areas, certain aspects of transportation conformity determinations still will be required for transportation plans, programs and projects. Specifically, for such determinations, RTPs, TIPs and transportation projects still will have to demonstrate that they are fiscally constrained (40 CFR 93.108) and meet the criteria for consultation and Transportation Control Measure (TCM) implementation in the conformity rule provisions (40 CFR 93.112 and 40 CFR 93.113, respectively). In addition, projects in LMP areas still will be required to meet the applicable criteria for CO hot spot analyses to satisfy “project level” conformity determinations (40 CFR 93.116 and 40 CFR 93.123), which must also incorporate the latest planning assumptions and models available (40 CFR 93.110 and 40 CFR 93.111, respectively).

Our approval of the revised Greeley Maintenance Plan affects future CO RTP and TIP conformity determinations prepared by NFRMPO, the Colorado Department of Transportation, the Federal Highway Administration and the Federal Transit Administration.

V. Final Action

We are approving the revised Greeley Maintenance Plan submitted on March 31, 2010. This maintenance plan meets the applicable CAA requirements, and we have determined it is sufficient to provide for maintenance of the CO NAAQS over the course of the second 10-year maintenance period out to 2019.

We are publishing this rule without prior proposal because we view this as a noncontroversial amendment and anticipate no adverse comments. However, in the Proposed Rules section of today's Federal Register publication, we are publishing a separate document that will serve as the proposal to approve the SIP revision if adverse comments are filed. This rule will be effective October 1, 2013 without further notice unless we receive adverse comments by September 3, 2013. If we receive adverse comments, we will publish a timely withdrawal in the Federal Register informing the public that the rule will not take effect. We will address all public comments in a subsequent final rule based on the proposed rule. We will not institute a second comment period on this action. Any parties interested in commenting must do so at this time. Please note that if we receive adverse comment on an amendment, paragraph, or section of this rule and if that provision may be severed from the remainder of the rule, we may adopt as final those provisions of the rule that are not the subject of an adverse comment.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq).

The Congressional Review Act, 5 U.S.C. section 801 et seq, as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by October 1, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See Clean Air Act section 307(b)(2).)

List of Subjects in 40 CFR Part 52

Environmental protection, Air pollution control, Carbon monoxide, Incorporation by reference, Intergovernmental relations, Reporting and recordkeeping requirements.

Authority: 42 U.S.C. 7401 et seq.

Dated: July 16, 2013.
Judith Wong,
Acting Regional Administrator, Region 8.

40 CFR part 52 is amended to read as follows:

PART 52—[AMENDED]

1. The authority citation for part 52 continues to read as follows:

Authority: 42 U.S.C. 7401 et seq.

Subpart G—Colorado

2. Section 52.349 is amended by adding paragraph (p) to read as follows:

§ 52.349 Control strategy: Carbon monoxide

* * * * *

(p) Revisions to the Colorado State Implementation Plan, revised Carbon Monoxide Maintenance Plan for Greeley, as adopted by the Colorado Air Quality Control Commission on December 17, 2009 and submitted by the Governor's designee on March 31, 2010.

[FR Doc. 2013-18439 Filed 8-1-13; 8:45 am]

BILLING CODE 6560-50-P